ENVIRONMENTAL PROTECTION AGENCY

[EPA-HQ-OEI-2010-0835; FRL-9311-6]

Agency Information Collection Activities; Submission to OMB for Review and Approval; Proposed Collections; Toxic Chemical Release Reporting; Request for Comments on Proposed Renewal of Form R and Form A, Including Minor Form Revisions and the Ratio-Based Burden Methodology

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to make changes to and renew an existing approved collection. The ICR Supporting Statement, which is abstracted below, describes the nature of the information collection (including proposed minor form revisions) and its estimated burden and cost.

DATES: Additional comments may be submitted on or before June 27, 2011.

ADDRESSES: Submit your comments, referencing Docket ID No. EPA-HQ-OEI-2010-0835, to (1) EPA online using http://www.regulations.gov (our preferred method), by e-mail to oei.docket@epa.gov, or by mail to: EPA Docket Center, Environmental Protection Agency, Mail Code 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Cassandra Vail, Toxics Release Inventory Program Division, Office of Information Analysis and Access (2844T), Environmental Protection Agency, 1200 Pennsylvania Ave., NW., Washington, DC 20460; telephone number: 202-566-0753; e-mail address: vail.cassandra@epa.gov.

SUPPLEMENTARY INFORMATION: EPA has submitted the following ICR to OMB for review and approval according to the procedures prescribed in 5 CFR 1320.12. On February 11, 2011 (76 FR 7841), EPA sought comments on this ICR pursuant to 5 CFR 1320.8(d). EPA received two comments, which are addressed in the Response to Comments document. Any additional comments on this ICR should be submitted to EPA and OMB within 30 days of this notice.

EPA has established a public docket for this ICR under Docket ID No. EPA-HQ-OEI-2010-0835, which is available for online viewing at http://www.regulations.gov, or in person viewing at the OEI Docket, EPA Docket Center (EPA/DC), U.S. EPA West Building, Room 3334, 1301 Constitution Ave., NW., Washington, DC. The EPA/DC Public Reading Room is open from 8 a.m. to 4:30 p.m., Monday through Friday, excluding legal holidays. The telephone number for the Reading Room is 202-566-1744, and the telephone number for the OEI Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Toxic Chemical Release Reporting; Request for Comments on Proposed Renewal of Form R and Form A, Including Minor Form Revisions, and the Ratio-Based Burden Methodology.

ICR numbers: EPA ICR No. 1363.21, OMB Control No. 2025-0009.

ICR Status: This ICR is scheduled to expire on July 31, 2011. Under OMB regulations, the Agency may continue to conduct or sponsor the collection of information while this submission is pending at OMB. EPA expects the renewed ICR will be available for TRI Reporting Year 2011 submissions, which are due by July 1, 2012. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9. In the past, EPA has issued separate ICRs: (1) EPA ICR No. 1363.20, OMB Control No. 2025-0009 for Form R and (2) EPA ICR No. 1704.12, OMB Control No. 2025-0010 for Form A. In this ICR Renewal, EPA is transitioning from issuing two separate ICRs to issuing a single ICR-EPA ICR No. 1363.21, OMB Control No. 2025-0009 that encompasses both Form R and Form A.

Abstract: Pursuant to section 313 of EPCRA, certain facilities that manufacture, process, or otherwise use specified toxic chemicals in amounts above reporting threshold levels must submit annually to EPA and to designated State officials toxic chemical release forms containing information specified by EPA. 42 U.S.C. 11023. In addition, pursuant to section 6607 of the Pollution Prevention Act (PPA), facilities reporting under section 313 of EPCRA must also report pollution prevention and waste management data, including recycling information, for such chemicals. 42 U.S.C. 13106. These reports are compiled and stored in EPA's database known as the Toxics Release Inventory (TRI); TRI data are made readily available to the public.

Regulations at 40 CFR part 372, subpart B, require facilities that meet all of the following criteria to report:

1. The facility has 10 or more full-time employee equivalents (i.e., a total of 20,000 hours worked per year or greater; see 40 CFR 372.3); and

2. The facility is included in a North American Industry Classification System (NAICS) Code listed at 40 CFR 372.23 or under Executive Order 13148, Federal facilities regardless of their industry classification; and

3. The facility manufactures (defined to include importing), processes, or otherwise uses any EPCRA section 313 (TRI) chemical in quantities greater than the established thresholds for the specific chemical in the course of a calendar year.

Facilities that meet the criteria must file a Form R report or, in some cases, may submit a Form A Certification Statement, for each listed toxic chemical for which the criteria are met. As specified in EPCRA section 313(a), the report for any calendar year must be submitted on or before July 1st of the following year. For example, reporting year 2009 data should have been submitted and certified on or before July 1, 2010.

The list of toxic chemicals subject to TRI reporting can be found at 40 CFR 372.65. This list is also published every year as Table II in the current version of the Toxics Release Inventory Reporting Forms and Instructions. The current TRI chemical list contains 593 chemicals and 30 chemical categories.

TRI data are used by environmental agencies, industry, and the public. EPA program offices use TRI data, along with other data, to help establish programmatic priorities, evaluate potential hazards to human health and the natural environment, and undertake appropriate regulatory and/or enforcement activities. Environmental and public interest groups use the data to better understand toxic chemical releases at the community level and to work with industry, government agencies, and others to promote reductions in toxic chemical releases. Industrial facilities use the TRI data to evaluate the efficiency of their production processes and to help track and communicate their progress in achieving pollution prevention goals.

The TRI data are unique in providing a multi-media (air, water, and land) picture of toxic chemical releases, transfers, and other waste management activities by covered facilities on a yearly basis. While other environmental media programs provide some toxic chemical data and related permit data, the data are not directly comparable to TRI data with regard to the types of chemicals and industry sectors that are covered or the frequency of reporting. Facilities that are subject to TRI reporting must submit reports for each calendar year to EPA and the States in which they are located by July 1st of the following year.

Respondents may claim trade secrecy for a chemical's identity as described in EPCRA Section 322 and its implementing regulations in 40 CFR part 350. EPA will disclose information that is covered by a claim of trade secrecy only to the extent permitted by and in accordance with the procedures in 40 CFR part 350 and 40 CFR part 2.

Burden Statement: The annual public reporting and recordkeeping burden for this collection of information is estimated to average 35.71 hours for Form R and 21.96 hours for Form A. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities (i.e., Facilities): 20,871.

Estimated Number of Responses: 73,727.

Estimated Total Overall Number of Responses per Respondent: 3.53.

Frequency of Response: Annual.

Estimated Total Annual Hour Burden: 3,515,751 hours.

Estimated Total Annual Cost: $174,451,565, includes $0 annualized capital or O&M costs.

What Changes are included in this ICR: OMB approved the current ICR for Form R and the ICR for the Form A Certification Statement on March 2, 2008, with original expiration dates of March 31, 2011. On February 17, 2010, OMB approved an extension of the expiration dates for both forms to July 31, 2011. The OMB approved the current burden estimates on March 2, 2008, where 3,217,280 hours for Form R and 515,901 hours for Form A, totaling 3,733,181 hours.

Changes in the Estimates: Several changes in the burden estimates have been approved by OMB since the OMB approvals of the ICRs on March 2, 2008. On March 20, 2009, OMB approved the merging of the ICR for TRI detailed reporting on dioxin and dioxin-like compounds (OMB 2025-0007, ICR 2086.02), into the TRI Form R ICR (currently OMB Control Number 2025-0009), increasing burden by 899 hours. Then on March 27, 2009, OMB approved changes in the number of responses and the burden hours for Form R and Form A to reflect the passage of Section 425 of the Omnibus Appropriations Act of 2009, which rescinded the December 2006 Toxics Release Inventory Burden Reduction Rule. As a result, the OMB-approved numbers for Form R were increased by 140,565 hours and for Form A burden were decreased by 318,418 yielding a net increase of 458,983 hours. Most recently, on November 26, 2010, the Addition of National Toxicology Program Carcinogens rule was published in the Federal Register. This rule is estimated to increase the number of reporting facilities by 74 and the number of Form Rs submitted by 186 with an associated burden increase of 6,641 hours.

Meanwhile, over the past several years, there has been a slight decrease in the number of facilities reporting to TRI. Based on the latest data for Reporting Year 2009 plus updates to reflect changes during the year of the ICR project—in this case, the modeled number of chemicals and facilities estimated to report under the Addition of National Toxicology Program Carcinogens rule, EPA now estimates the total number of combined Form R and Form A responses to be 73,727, with the associated total annual burden hours to be 3,515,751, and the annual cost to be $174,451,565. For a detailed explanation of the Agency's estimates of the respondent reporting burden and labor costs, please refer to the updated versions of the TRI Form R and A Supporting Statement and the document “Revising TRI Burden to Ratio-Based Methodology,” which are available in the docket.

Changes in the form, as revised per the Response to Comments: EPA proposes to make the following changes to the ICR for the TRI Form R, with regard to the parent company field, and the Form A Certification Statement:

1. Replace the NA box from the Parent Company field (Part I: Sec. 5, 5.1) with a check box that reads “No U.S. Parent Company (for TRI Reporting purposes).” Rationale: The NA box is currently used to indicate either a foreign parent company or no higher level U.S. company. To better facilitate analysis of the TRI data, EPA is revising its instructions on how to report parent companies for TRI reporting purposes. The revised instructions provide that the highest-level U.S. company should be recorded or the “No U.S. Parent Company (for TRI Reporting purposes)” box should be selected.

2. Disaggregate the “Total Transfers” field and add fields to identify chemical discharge quantities to specific publicly owned treatment works (POTWs) (Part II: Sec 6.1).

Rationale: The current form collects a single “Total Transfer” quantity for transfers to all POTWs. Providing separate fields for the transfer quantity to each POTW will facilitate analysis of the releases to specific watersheds.

3. Section 8 enhancements, including:

• Change instructional statement on form to specify only “newly implemented” source reduction activities (Part II: Sec. 8.10).

• Add an N/A box to match associated text revisions (Part II: Sec. 8.10).

• Remove the “Yes” box and enlarge the text section for the question on optional pollution prevention information (Part II: Section 8.11).

Rationale: The existing form requests information on “any source reduction activities for this chemical during the reporting year;” but the Reporting Forms and Instructions requests information on “newly implemented” source reduction activities. This change on the form will make the form consistent with the instructions, and specify that only new activities should be reported. The Section 8 enhancements also provide a larger text box (8.11) where facilities can provide optional information on source reduction, recycling, or pollution control activities.

4. Add a new question to capture miscellaneous and optional information regarding the submission (Part II: Sec. 9., 9.1). Rationale: This new text box will allow facilities to provide optional, miscellaneous information that may be helpful to EPA and/or the public in using or interpreting their data (e.g., facility closures, explanations for changes in release quantities, etc.).

5. Add NA boxes to Part II, Sections 5.3, 6.1, and 6.2. Rationale: Adding NA boxes to these sections will make the formatting of Form R and Form R Schedule 1 more consistent.

Dated: May 20, 2011.
John Moses,
Director, Collection Strategies Division.

[FR Doc. 2011-13101 Filed 5-25-11; 8:45 am]

BILLING CODE 6560-50-P